DEPARTMENT OF TRANSPORTATION

Federal Railroad Administration

[Docket Number FRA-2015-0044]

Petition for Waiver of Compliance

In accordance with Part 211 of Title 49 of the Code of Federal Regulations (CFR), this provides the public notice that by a document dated May 4, 2015, Siemens Industry, Inc. has petitioned the Federal Railroad Administration (FRA) for a waiver of compliance from certain provisions of the Federal railroad safety regulations contained at 49 CFR 232.409(d). FRA assigned the petition docket number FRA-2015-0044.

Siemens Industry, Inc. (Siemens) is submitting a request for a waiver of compliance from 49 CFR 232.409(d)—Inspection and Testing of End-of-Train Devices. Siemens manufactures railroad electronics, including end-of-train (EOT) devices. In its waiver request, Siemens states that thousands of its EOT devices are deployed by Class 1 and short line railroads.

Specifically, Siemens is seeking the waiver for two EOT models: Q3920 and R3930 (the dual air pipe version of Q3920). The Q3920 and R3930 EOT devices use a Ritron DTX-445 radio. Previously, Ritron has received a waiver of compliance from 49 CFR 232.409(d) for their DTX-445 radio (see Docket Number FRA-2009-0015). Siemens requests a waiver from 49 CFR 232.409(d), similar to the waiver granted to Ritron in Docket Number FRA-2009-0015. Siemens asserts that as long as the waiver in FRA-2009-0015 is valid, Siemens EOT devices using the Ritron DTX-445 radio should also be permitted to take advantage of the waiver since there are no components in the EOT device with an annual calibration requirement and there are no adjustable components that can affect radio performance.

A copy of the petition, as well as any written communications concerning the petition, is available for review online at www.regulations.gov and in person at the Department of Transportation's Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by August 3, 2015 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on June 11, 2015.
Ron Hynes,
Director of Technical Oversight.

[FR Doc. 2015-14854 Filed 6-16-15; 8:45 am]

BILLING CODE 4910-06-P